INTERNATIONAL TRADE COMMISSION

[Investigation No. 337-TA-1365]

Certain Photovoltaic Connectors and Components Thereof; Notice of a Commission Determination Not To Review Initial Determinations Amending the Complaint and Notice of Investigation and Setting a 17-Month Target Date

AGENCY: U.S. International Trade Commission.

ACTION: Notice.

SUMMARY: Notice is hereby given that the U.S. International Trade Commission has determined not to review two initial determinations issued by the presiding administrative law judge (“ALJ”) granting a motion of complainant Shoals Technologies Group, LLC (“Shoals Technologies” or “Complainant”) to amend the complaint and notice of investigation (“NOI”) to assert certain claims of U.S. Patent No. 11,689,153 (“the '153 patent”) (Order No. 5) and setting a 17-month target date for November 12, 2024 (Order No. 6).

FOR FURTHER INFORMATION CONTACT: Paul Lall, Office of the General Counsel, U.S. International Trade Commission, 500 E Street SW, Washington, DC 20436, telephone (202) 205-2043. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On June 9, 2023, the Commission instituted this investigation based on a complaint filed by Shoals Technologies. 88 FR 37905-06 (June 9, 2023). The complaint alleges violations of section 337 of the Tariff Act of 1930, as amended, 19 U.S.C. 1337 based upon the importation into the United States, the sale for importation, or sale within the United States after importation of certain photovoltaic connectors and components thereof by reason of infringement of certain claims of U.S. Patent Nos. 10,553,739 (“the '739 Patent”) and 10,992,254 (“the '254 Patent”). The Commission's NOI named the following eight respondents: (1) Hikam America, Inc. of Chula Vista, CA; (2) Hikam Electrónica de México, S.A. de C.V. of Mexicali, Mexico; (3) Hikam Tecnologia de Sinaloa of Guasave, Mexico; (4) Hewtech Philippines Corp. of Laguna, Philippines; (5) Hewtech Philippines Electronics Corp. of Pampanga, Philippines; (6) Hewtech (Shenzhen) Electronics Co., Ltd. of Shenzhen, China; (7) Voltage, LLC of Chapel Hill, NC; and (8) Ningbo Voltage Smart Production Co. (“Ningbo Voltage”) of Ningbo, China. Id. The Office of Unfair Import Investigations was also named as a party in this investigation. Id.

On June 29, 2023, Complainant filed an unopposed motion for leave to amend the complaint and NOI to add allegations of infringement against respondents Voltage, LLC and Ningbo Voltage (collectively, “Voltage”) related to claims 1, 2-3, 6, 8, 11-18, 21, 23, and 24 of U.S. Patent No. 11,689,153 (“the '153 patent”). See Order No. 5, at 1. In its motion, Complainant argued that: (1) addition of the '153 patent will not affect the scope of discovery because “the '153 Patent is a continuation of a patent that is already asserted in the Investigation; (2) it seeks to assert the '153 Patent against the same respondents and accused products; and (3) the '153 Patent relates to the same technology that is already at issue in the Investigation.” Order No. 5, at 2. Complainant further argued that “[g]ranting the proposed amendment will not prejudice the rights of the parties or the public interest because the proposed amendment will: (1) add substantially similar allegations based on a related patent to those currently asserted; (2) not delay or disrupt the timely progression of the Investigation; and (3) promote judicial economy by allowing the parties to litigate related patents by the same parties against the same accused products in the same investigation.” Id. No party opposed the motion. Id. at 1.

On July 18, 2023, the ALJ issued the first subject ID (Order No. 5), granting Complainant's motion to amend the complaint and NOI as requested. The ID finds that Complainant had established good cause for the proposed amendment pursuant to Commission Rule 210.14(b)(1) (19 CFR 210.14(b)(1)). As the ID explains, Complainant could not have asserted the '153 patent at the time it filed its original Complaint because the '153 patent issued on June 27, 2023, over a month after the original complaint was filed on May 4, 2023. See Order No. 5, at 4. In addition, the ID finds that “there does not appear to be any evidence demonstrating that inclusion of the '153 patent will substantially expand the scope of discovery because the claimed subject matter is similar to the '254 patent, which is already asserted in this investigation, and the accused and domestic industry products are the same.” Id. The ID concludes that neither Voltage nor the public interest will be prejudiced by the amendment. Id.

On July 18, 2023, the ALJ issued the second subject ID (Order No. 6), pursuant to Commission Rule 210.51(a)(1), setting a 17-month target date for completion of the investigation of November 12, 2024 in consideration of “the parties' proposals, the parties' scheduling conflicts, the scope of this investigation, and the [presiding ALJ's] responsibilities in other investigations.” Order No. 6, at 2. The ID further states that the deadline for issuing the final ID is July 12, 2024. Id.

No party filed a petition for review of the subject IDs.

The Commission has determined not to review the subject IDs (Order Nos. 5 and 6). Pursuant to Commission Rule 210.14, the Notice of Investigation is amended to include claims 1, 2-3, 6, 8, 11-18, 21, 23, and 24 of the '153 patent. The target date for completion of the investigation is set for November 12, 2024, and the deadline for issuing the final ID is July 12, 2024.

The Commission vote for this determination took place on August 15, 2023.

The authority for the Commission's determination is contained in section 337 of the Tariff Act of 1930, as amended (19 U.S.C. 1337), and in Part 210 of the Commission's Rules of Practice and Procedure (19 CFR part 210).

By order of the Commission.
Issued: August 16, 2023.
Lisa Barton,
Secretary to the Commission.

[FR Doc. 2023-17898 Filed 8-18-23; 8:45 am]

BILLING CODE 7020-02-P